DEPARTMENT OF JUSTICE

Notice of Lodging of Consent Decree Under Comprehensive Environmental Response, Compensation and Liability Act

Notice is hereby given that on June 10, 2008, a proposed Consent Decree in United States v. ExxonMobil Corporation, C.A. No. 1:08-CV-00124-IMK (N.D.W.Va.), was lodged with the United States District Court for the Northern District of West Virginia. The Consent Decree resolves the United States' claim for response costs against the ExxonMobil Corporation, pursuant to Section 107(a)(2) of the Comprehensive Environmental Response, Compensation and Liability Act (“CERCLA”), 42 U.S.C. 9607(a)(2). The claim relates to response costs incurred by the U.S. Environmental Protection Agency (“EPA”) in connection with clean-up activities performed at the Big John's Salvage Site, located in Marion County, West Virginia. Under the Consent Decree, defendant ExxonMobil Corporation will pay EPA $3,000,000 in reimbursement of a portion of the response costs incurred by EPA in connection with the Site.

The Department of Justice will receive for a period of thirty (30) days from the date of this publication comments relating to the Consent Decree. Comments should be addressed to the Assistant Attorney General, Environment and Natural Resources Division, and either e-mailed to pubcomment-ees.enrd@usdoj.gov, or mailed to P.O. Box 7611, U.S. Department of Justice, Washington, DC 20044-7611, and should refer to United States v. ExxonMobil Corporation, DOJ Reference No. 90-11-3-08499. Commenters may request an opportunity for a public meeting in the affected area, in accordance with Section 7003(d) of RCRA, 42 U.S.C. 6973(d).

The Consent Decree may be examined at the Office of the United States Attorney, 1125 Chapline Street, Wheeling, West Virginia 26003, and at U.S. EPA Region 3, 1650 Arch Street, Philadelphia, Pennsylvania 19103. During the public comment period, the Consent Decree may also be examined on the following Department of Justice Web site: http://www.usdoj.gov/enrd/Consent_ Decrees.html. A copy of the Consent Decreed may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Consent Decree, without one Appendix, from the Consent Decree Library, please enclose a check in the amount of $6.25 (25 cents per page production costs), payable to the U.S. Treasury or, if by e-mail or fax, forward a check in that amount to the Consent Decree Library at the stated address. In requesting a copy, with one Appendix (a reduced size map of a portion of the Big John's Salvage Site), please enclose a check in the amount of $6.75 (25 cents per page reproduction cost) payable to the U.S. Treasury.

If the requester wants a copy of the Appendix in the form of the full size map, please contact U.S. EPA Region 3, 1650 Arch Street, Philadelphia, Pennsylvania 19103, to determine the cost of reproducing the map.

Robert D. Brook,
Assistant Chief, Environmental Enforcement Section, Environment and Natural Resources Division.

[FR Doc. E8-14634 Filed 6-27-08; 8:45 am]

BILLING CODE 4410-15-P